DEPARTMENT OF LABOR

Employment and Training Administration

[TA-W-64,316]

Modern Plastics Corporation, Currently Known as Spi BLOW Molding LLC, Coloma, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on November 21, 2008, applicable to workers of Modern Plastics Corporation, Coloma, Michigan. The notice was published in the Federal Register on October 10, 2008 (73 FR 75135).

At the request of the State agency, the Department reviewed the certification for workers of the subject firm. The workers were engaged in the production of molded plastic parts, a component for hospital furniture.

The company reports that in August 2008, an outside source purchased the Blow Molded Department of Modern Plastics Corporation, including the Coloma, Michigan location of the subject firm and is now known as SPI Blow Molding LLC.

Accordingly, the certification is being amended to include workers at the Coloma, Michigan location of Modern Plastics Corporation, whose wages are reported under the Unemployment Insurance (UI) tax account for SPI Blow Molding LLC.

The amended notice applicable to TA-W-64,316 is hereby issued as follows:

All workers of Modern Plastics Corporation, now known as SPI Blow Molding LLC, Coloma, Michigan, who became totally or partially separated from employment on or after October 24, 2007, through November 21, 2010, are eligible to apply for adjustment assistance under Section 223 of the Trade Act of 1974, and are also eligible to apply for alternative trade adjustment assistance under Section 246 of the Trade Act of 1974.

Signed at Washington, DC, this 21st day of January 2009.
Richard Church,
Certifying Officer, Division of Trade Adjustment Assistance.

[FR Doc. E9-2736 Filed 2-9-09; 8:45 am]

BILLING CODE 4510-FN-P